DEPARTMENT OF COMMERCE

National Oceanic and Atmospheric Administration

RIN 0648-XF406

Gulf of Mexico Fishery Management Council; Public Meetings

AGENCY: National Marine Fisheries Service (NMFS), National Oceanic and Atmospheric Administration (NOAA), Commerce.

ACTION: Notice; public hearing via webinar.

SUMMARY: The Gulf of Mexico Fishery Management Council (Council) will hold a public hearing via webinar to solicit public comments on Draft Reef Fish Amendment 44—Minimum Stock Size Threshold for Reef Fish Stocks.

DATES: The public hearing will take place via webinar on Tuesday, May 23, 2017, starting at 6 p.m. EDT and will conclude no later than 9 p.m. Written public comments must be received on or before 5 p.m. EDT on Tuesday, May 16, 2017.

ADDRESSES: Gulf of Mexico Fishery Management Council, 2203 N. Lois Avenue, Suite 1100, Tampa, FL 33607; telephone: (813) 348-1630, www.gulfcouncil.org.

FOR FURTHER INFORMATION CONTACT: Steven Atran, Senior Fishery Biologist, Gulf of Mexico Fishery Management Council; telephone: (813) 348-1630; steven.atran@gulfcouncil.org.

SUPPLEMENTARY INFORMATION: Minimum stock size threshold (MSST) is the stock biomass level below which a stock is declared to be overfished and in need of a rebuilding plan. It is set at some level below the biomass level corresponding to maximum sustainable yield (Bmsy) in order to allow natural fluctuations around the Bmsy level without spurious overfished declarations resulting. There are 7 stocks in the Reef Fish Fishery Management Plan that have current or proposed MSST definitions (gag, red grouper, red snapper, vermilion snapper, gray triggerfish, greater amberjack, and hogfish). For most of these stocks, MSST is set using the formula: (1 − M) * Bmsy, where M is the natural mortality rate and Bmsy is the stock biomass corresponding to MSY or the MSY proxy. For stocks with a low natural mortality rate, this results in an MSST that is close to Bmsy. In some cases this MSST may be so close the Bmsy that it is not significantly different given the uncertainties in the data, and may lead to spurious overfished declarations due to natural fluctuations. For this reason, the Council is considering alternatives that would broaden the difference between Bmsy and MSST for some or all of the 7 reef fish stocks.

Staff and a Council member will be available to answer any questions and the public will have the opportunity to provide testimony on the amendment and other related testimony.

The schedule is as follows:

Tuesday, May 23, 2017, Webinar—6 p.m. EDT at: https://attendee.gotowebinar.com/register/369981646765939713.

After registering, you will receive a confirmation email containing information about joining the webinar.

Public documents may be obtained by contacting the Gulf of Mexico Fishery Management Council at (813) 348-1630 or on their Web site at www.gulfcouncil.org.

Authority: 16 U.S.C. 1801 et seq.

Dated: May 4, 2017.
Tracey L. Thompson,
Acting Deputy Director, Office of Sustainable Fisheries, National Marine Fisheries Service.

[FR Doc. 2017-09437 Filed 5-9-17; 8:45 am]

BILLING CODE 3510-22-P